DEPARTMENT OF COMMERCE

Application Deadline Extended; Executive Green ICT & Energy Efficiency Trade Mission to Mexico City, Mexico

AGENCY: Department of Commerce.

ACTION: Notice.

SUMMARY: The United States Department of Commerce, International Trade Administration, and U.S. & Foreign Commercial Service are organizing an Executive Green ICT & Energy Efficiency Trade Mission to Mexico City from September 27-29, 2010. This Executive led mission will focus on assisting U.S. providers of “Green Information & Communication Technology (ICT)” solutions, as well as energy efficiency technologies to enter or increase their presence in various sectors of the Mexican market. This will include data centers, telecommunications, utilities, and construction. Green ICTs—or smart technologies—provide monitoring, supervision and automation capabilities to reach energy efficiency in the mentioned industries, such as smart grids and smart buildings. The mission will support U.S. delegates to gain market insight, local private and public contacts, and identify potential business opportunities and partners. In addition to the welcome reception and Matchmaking Services, a one-day Green ICT & Energy Efficiency conference will take place at the World Trade Center in Mexico City. Relevant issues on energy efficiency in data centers, smart grids, and green buildings will be discussed. Mission delegates will have an opportunity to exhibit outside of the conference hall during this event. Furthermore, this mission will take place during the same days as The Green Expo at the World Trade Center in Mexico City. As a separate activity and independent of the mission, delegates will be granted a discount by EJ Krause, organizer of The Green Expo, to exhibit at the show in the USA Pavilion.

DATES: Applications should be submitted to the U.S. Commercial Service in Mexico City by August 13, 2010. Applications received after that date will be considered only if space and scheduling constraints permit.

Contact:

U.S. Commercial Service in Mexico City:

Aliza Totayo, Commercial Officer, T: +52 (55) 5140-2635, Aliza.Totayo@mail.doc.gov.

Juan Carlos Prieto, Commercial Specialist, T: +52 (55) 5140-2634, JuanCarlos.Prieto@mail.doc.gov.

Timeframe for Recruitment and Applications: Mission recruitment will be conducted in an open and public manner, including publication in the Federal Register, posting on the Commerce Department trade mission calendar (http://www.ita.doc.gov/doctm/tmcal.html) and other Internet web sites, press releases to general and trade media, direct mail, notices by industry trade associations and other multiplier groups, and publicity at industry meetings, symposia, conferences, and trade shows.

Recruitment for the mission will begin immediately and conclude no later than August 13, 2010. Applications received after that date will be considered only if space and scheduling constraints permit.

Natalia Susak,
International Trade Specialist.

[FR Doc. 2010-19336 Filed 8-5-10; 8:45 am]

BILLING CODE 3510-FP-P